NUCLEAR REGULATORY COMMISSION

Draft Regulatory Guide; Issuance, Availability

AGENCY: Nuclear Regulatory Commission.

ACTION: Draft Regulatory Guide—Issuance, Availability.

FOR FURTHER INFORMATION CONTACT: Peter Lee, U.S. Nuclear Regulatory Commission, Washington, DC 20555-0001. Telephone (301) 415-8111 or e-mail PSL1@nrc.gov.

SUPPLEMENTARY INFORMATION:

I. Introduction

The U.S. Nuclear Regulatory Commission (NRC) has issued for public comment a draft guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide, entitled “Managing the Safety/Security Interface,” is temporarily identified by its task number, DG-5021, which should be mentioned in all related correspondence.

This draft regulatory guide provides an approach acceptable to the NRC for managing the safety/security interface at nuclear power plants. Title 10, Section 73.58, of the Code of Federal Regulations (10 CFR part 73), “Physical Protection of Plants and Materials,” requires NRC licensees to assess and manage safety and security activities. If implemented by licensees, the approach and examples described in this guidance would provide reasonable assurance of adequate protection for the interface of safety and security, but are not intended to be all-inclusive, and licensees may employ alternative methods for implementing NRC regulations. This draft regulatory guide would be applicable to operating reactors licensed in accordance with 10 CFR Parts 50 and 52, and new applicants should consider this guidance in preparing an application for a combined license (COL) under 10 CFR Part 52. The licensee bears sole responsibility for ensuring that the potential for adverse affects on safety and security is managed and assessed to provide adequate protection of public health and safety, protection of the environment, and common defense and security. Licensee questions regarding regulatory requirements for the management of safety/security interface should be directed to the appropriate NRC Headquarters or Regional staff.

II. Further Information

The NRC staff is soliciting comments on Draft Regulatory Guide DG-5021. Comments may be accompanied by relevant information or supporting data, and should mention DG-5021 in the subject line. Comments submitted in writing or in electronic form will be made available to the public in their entirety through the NRC's Agencywide Documents Access and Management System (ADAMS). Personal information will not be removed from your comments. You may submit comments by any of the following methods.

1. Mail comments to: Rulemaking, Directives, and Editing Branch, Office of Administration, U.S. Nuclear Regulatory Commission, Washington, DC 20555-0001.

2. E-mail comments to: NRCREP@nrc.gov. You may also submit comments via the NRC's rulemaking Web site at http://ruleforum.llnl.gov. Address questions about our rulemaking Web site to Carol A. Gallagher (301) 415-5905; e-mail CAG@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about Draft Regulatory Guide DG-5021 may be directed to Peter Lee, U. S. Nuclear Regulatory Commission, Washington, DC 20555-0001. Telephone (301) 415-8111 or e-mail PSL1@nrc.gov.

Comments would be most helpful if received by September 25, 2007. Comments received after that date will be considered if it is practical to do so, but the NRC is able to ensure consideration only for comments received on or before this date. Although a time limit is given, comments and suggestions in connection with items for inclusion in guides currently being developed or improvements in all published guides are encouraged at any time.

Electronic copies of Draft Regulatory Guide DG-5021 are available through the NRC's public Web site under Draft Regulatory Guides in the Regulatory Guides document collection of the NRC's Electronic Reading Room at http://www.nrc.gov/reading-rm/doc-collections/.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov.

Regulatory guides are not copyrighted, and Commission approval is not required to reproduce them. (5 U.S.C. 552(a))

Dated at Rockville, Maryland, this 16th day of July, 2007.
For the U.S. Nuclear Regulatory Commission.
Andrea D. Valentin,
Chief, Regulatory Guide Branch, Division of Fuel, Engineering, and Radiological Research, Office of Nuclear Regulatory Research.

[FR Doc. E7-14251 Filed 7-23-07; 8:45 am]

BILLING CODE 7590-01-P